ENVIRONMENTAL PROTECTION AGENCY

40 CFR Part 52

[EPA-R04-OAR-2019-0004; FRL-9991-48-Region 4]

Air Plan Approval; Tennessee; Updates to the National Ambient Air Quality Standards for Chattanooga

AGENCY: Environmental Protection Agency (EPA).

ACTION: Proposed rule.

SUMMARY: The Environmental Protection Agency (EPA) is proposing to approve a revision to the Chattanooga portion of the Tennessee State Implementation Plan (SIP), provided by the State of Tennessee, through the Tennessee Department of Environment and Conservation (TDEC) from Chattanooga/Hamilton County Air Pollution Control Bureau by a letter dated September 12, 2018. The revision updates the National Ambient Air Quality Standards (NAAQS) in the Chattanooga portion of the Tennessee SIP to reflect recent revisions made to the NAAQS. EPA is proposing to approve the changes because they are consistent with the Clean Air Act (CAA or Act).

DATES: Comments must be received on or before April 29, 2019.

ADDRESSES: Submit your comments, identified by Docket ID No. EPA-R04-OAR-2019-0004 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Evan Adams of the Air Regulatory Management Section, Air Planning and Implementation Branch, Air, Pesticides and Toxics Management Division, U.S. Environmental Protection Agency, Region 4, 61 Forsyth Street SW, Atlanta, Georgia 30303-8960. Mr. Adams can be reached by phone at (404) 562-9009 or via electronic mail at adams.evan@epa.gov.

SUPPLEMENTARY INFORMATION:

I. Background

Sections 108 and 109 of the CAA govern the establishment, review, and revision, as appropriate, of the NAAQS to protect public health and welfare for six criteria pollutants: ozone (O3), particulate matter (PM) (including fine particulate matter, or PM2.5), carbon monoxide (CO), lead (Pb), sulfur dioxide (SO2), and nitrogen dioxide (NO2). The CAA requires periodic review of the air quality criteria, the science upon which the standards are based, and the standards themselves. EPA's regulatory provisions that govern the NAAQS are found at 40 CFR 50 National Primary and Secondary Ambient Air Quality Standards.

On September 12, 2018, TDEC submitted to EPA a SIP revision to the Chattanooga portion of the Tennessee SIP that contains changes to several of Chattanooga-Hamilton County's air quality rules in Part II, Chapter 4, Article II, Section 4-41.¹ Through this action, EPA is proposing to approve changes to the SIP that delete the current version and substitute a revised version of Part II, Chapter 4, Article II, Section 4-41, Rule 21 of the Chattanooga City Code “Ambient Air Quality Standards.” Hamilton County revised its rule to be consistent with changes to federal NAAQS.

¹ EPA notes that the Agency received the SIP revisions on September 18, 2018, along with other revisions to the Chattanooga portion of the Tennessee SIP. EPA will be considering action for those SIP revisions in a separate rulemaking.

II. Analysis of State's Submittal

Through a letter dated September 12, 2018, TDEC submitted a SIP revision to EPA for review and approval. The revision deletes the current version and substitutes a revised version of Part II, Chapter 4, Article II, Section 4-41, Rule 21 of the Chattanooga City Code, “Ambient Air Quality Standards.” Chattanooga/Hamilton County revised Rule 21 to update the NAAQS in the SIP for each criteria pollutant—CO, Pb, NO2, O3, PM, and SO2—to maintain consistency with the federal NAAQS. See Review of National Ambient Air Quality Standards for Carbon Monoxide, 76 FR 54294 (August 31, 2011); Review of the National Ambient Air Quality Standards for Lead, 81 FR 71906 (October 18, 2016); Review of the Primary National Ambient Air Quality Standards for Oxides of Nitrogen, 83 FR 17226 (April 18, 2018) (as measured by NO2); Secondary National Ambient Air Quality Standards for Oxides of Nitrogen and Sulfur, 77 FR 20218 (April 3, 2012); National Ambient Air Quality Standards for Ozone, 80 FR 65292 (October 26, 2015); National Ambient Air Quality Standards for Particulate Matter,² 78 FR 3086 (January 15, 2013) (addressing fine and coarse particulate matter); and Primary National Ambient Air Quality Standard for Sulfur Dioxide,³ 75 FR 35520 (June 22, 2010). EPA is approving this revision to the Chattanooga portion of the Tennessee SIP to maintain consistency with the NAAQS. The Chattanooga/Hamilton County rule revision became state-effective on January 23, 2017. EPA has reviewed these changes to the Chattanooga/Hamilton County regulations for CO, Pb, NO2, PM, O3 and SO2, and has made the preliminary determination that these changes are consistent with federal regulations.⁴

² On October 17, 2006, EPA revoked the 1-year primary and secondary PM10 NAAQS. See 71 FR 61144.

³ On June 22, 2010, EPA promulgated a revised primary SO2 NAAQS. See 75 FR 35520. The revised SO2 NAAQS is an hourly standard of 75 parts per billion (ppb), based on a 3-year average of the annual 99th percentile of 1-hour daily maximum concentrations. In the same action, EPA also revoked the 24-hour and annual primary SO2 NAAQS. See 75 FR 35520. On September 14, 1973, EPA also revoked the 3-hour secondary SO2 NAAQS. See 38 FR 25678. The former primary SO2 NAAQS for the 1971 annual and 24-hour ambient air quality standards set forth in 40 CFR 50.4 will continue to apply to an area until one year after the effective date of the designation of that area, pursuant to section 107 of the CAA, for the 2010 SO2 NAAQS set forth in § 50.17. See 40 CFR 50.4(e).

⁴ EPA notes that Chattanooga/Hamilton County included Gaseous Fluorides (expressed as HF) in the table of Ambient Air Quality Standards; however, the EPA does not recognize gaseous fluorides as a criteria pollutant. Chattanooga/Hamilton County also specifies in Section 15, Rule 21, Part 7 that the standards for gaseous fluorides are for the State of Tennessee. Gaseous fluorides are not included in the Federal NAAQS, therefore, EPA is not acting on these changes to the SIP.

III. Incorporation by Reference

In this document, EPA is proposing to include in a final EPA rule regulatory text that includes incorporation by reference. In accordance with requirements of 1 CFR 51.5, EPA is proposing to incorporate by reference changes to the Chattanooga portion of the Tennessee SIP at Part II, Chapter 4, Article II, Section 4-41, Rule 21, state effective January 23, 2017. The amendments update the criteria pollutant standards to reflect the federal regulations. EPA has made, and will continue to make, these materials generally available through www.regulations.gov and at the EPA Region 4 office (please contact the person identified in the FOR FURTHER INFORMATION CONTACT section of this preamble for more information).

IV. Proposed Action

EPA is proposing to approve the aforementioned changes to the Chattanooga portion of the Tennessee SIP because the changes are consistent with section 110 of the CAA. The changes in Part II, Chapter 4, Article II, Section 4-41, Rule 21, of the Chattanooga Code incorporate changes to the criteria pollutant standards to reflect the changes in the Code of Federal Regulations. See 40 CFR part 50. EPA views these changes as being consistent with the CAA.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen dioxide, Ozone, Particulate matter, Reporting and recordkeeping requirements, Sulfur oxides, Volatile organic compounds, Lead, Carbon Monoxide.

Authority: 42 U.S.C. 7401 et seq.

Dated: March 18, 2019.
Mary S. Walker,
Acting Regional Administrator, Region 4.

[FR Doc. 2019-06115 Filed 3-28-19; 8:45 am]

BILLING CODE 6560-50-P